FEDERAL RETIREMENT THRIFT INVESTMENT BOARD

Sunshine Act Notice

Time and Date: 9 a.m.. (EDI), May 20, 2002.

Place: 4th Floor, Conference Room, 1250 H Street, NW., Washington, DC.

Status: Parts will be open to the public and part closed to the public.

Matters To Be Considered

Parts Open to the Public

1. National Finance Center Record Keeping and New TSP System.

2. Congressional/Agency/Participant Liaison.

3. Benefits and Investments.

4. Participant Communications.

5. Approval of the minutes of the April 15, 2002, Board member meeting.

6.Thrift Savings Plan Activity Report by the Executive Director.

7. Approval of the Update of the FY 2002 Budget and FY 2003 Estimates.

8. Investment Policy Review.

9. Status of Audit Recommendations.

Part Closed to the Public

10. Status of Litigation.

CONTACT PERSON FOR MORE INFORMATION: Thomas J. Trabucco, Director, Office of External Affairs, (202) 942-1640.

Dated: May 6, 2002.
Elizabeth S. Woodruff,
Secretary to the Board, Federal Retirement Thrift Investment Board.

[FR Doc. 02-11703 Filed 5-6-02; 5:01 pm]

BILLING CODE 6760-01-M